NATIONAL SCIENCE FOUNDATION

Proposal Review Panel for Materials Research; Notice of Meeting

In accordance with the Federal Advisory Committee Act (Pub. L. 92-463 as amended), the National Science Foundation announces the following meeting:

Names: Proposal Review Panel for Materials Research—Materials Research Science & Engineering Centers Site Visit, University of Chicago (V160698) #1203.

Dates and Times: April 29, 2016; 9:00 a.m. EST-5:00 p.m. EST.

Place: University of Chicago, Chicago, IL 60637.

Type of Meeting: Part—Open.

Contact Person: Dr. Daniele Finotello, Program Director, Materials Research Science & Engineering Centers, MRSEC. Division of Materials Research, Room 1065, National Science Foundation, 4201 Wilson Boulevard, Arlington, VA 22230, Telephone (703) 292-4676.

Purpose of Meeting: NSF site visit to provide advice and recommendations concerning further NSF support for the Center.

Agenda

Friday, April 29, 2016

8:45 a.m.-9:00 a.m.: Informal Meeting NSF PDs & MRSEC Director (CLOSED)

9:00 a.m.-9:05 a.m.: Introductions

9:05 a.m.-10:00 a.m.: Chicago MRSEC Overview (Gardel)

10:00 a.m.-10:20 a.m.: Coffee Break

10:20 a.m.-11:30 a.m.: IRGs & SEEDs

11:30 a.m.-12:00 p.m.: Education and Outreach

12:00 p.m.-1:05 p.m.: Lunch with MRSEC students and postdocs

1:10 p.m.-2:15 p.m.: Shared Experimental Facilities Tour

2:15 p.m.-3:00 p.m.: NSF Panel Caucus (CLOSED)

3:00 p.m.-3:30 p.m.: NSF debrief MRSEC Executive Committee (CLOSED)

Reason for Closing: The work being reviewed include information of a proprietary or confidential nature, including technical information; financial data, such as salaries and personal information concerning individuals associated with the proposals. These matters are exempt under 5 U.S.C. 552b(c), (4) and (6) of the Government in the Sunshine Act.

Dated: February 22, 2016.
Crystal Robinson,
Committee Management Officer.

[FR Doc. 2016-04079 Filed 2-24-16; 8:45 am]

BILLING CODE 7555-01-P